NUCLEAR REGULATORY COMMISSION

[Docket Nos. 50-335 and 50-389; EISX-429-00-000-1765783975; NRC-2021-0197]

Florida Power & Light Co.; St. Lucie Plant, Units 1 and 2; Draft Environmental Impact Statement

AGENCY: Nuclear Regulatory Commission.

ACTION: Notice; request for comment.

SUMMARY: The U.S. Nuclear Regulatory Commission (NRC, the Commission) is issuing for public comment “Generic Environmental Impact Statement for License Renewal of Nuclear Plants, Supplement 11, Second Renewal, Regarding Subsequent License Renewal for St. Lucie Plant, Units 1 and 2, Draft Report for Comment.” This draft environmental impact statement (EIS) concerns the NRC staff's review of the environmental impacts of the proposed subsequent renewal of Renewed Facility Operating License Nos. DPR-67 and NPF-16 for St. Lucie Plant, Units 1 and 2 (St. Lucie), respectively, for an additional 20 years. St. Lucie is located in St. Lucie County, Florida, approximately 7 miles southeast of the city of Fort Pierce, Florida. The environmental impacts of the no-action alternative, including replacement energy alternatives under the no-action alternative, are also evaluated in the EIS.

DATES: Members of the public are invited to submit comments by February 23, 2026. Comments received after this date will be considered if it is practical to do so, but the NRC is able to ensure consideration only for comments received on or before this date.

ADDRESSES: You may submit comments by any of the following methods; however, the NRC encourages electronic comment submission through the Federal rulemaking website:

• Federal Rulemaking Website: Go to https://www.regulations.gov and search for Docket ID NRC-2021-0197. Address questions about Docket IDs in Regulations.gov to Bridget Curran; telephone: 301-415-1003; email: Bridget.Curran@nrc.gov. For technical questions, contact the individual listed in the For Further Information Contact section of this document.

• Email: Comments may be submitted to the NRC electronically using the email address SaintLucieEnvironmental@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Lance Rakovan, Office of Nuclear Material Safety and Safeguards, U.S. Nuclear Regulatory Commission, Washington, DC 20555-0001; telephone: 301-415-2589; email: Lance.Rakovan@nrc.gov.

SUPPLEMENTARY INFORMATION:

I. Obtaining Information and Submitting Comments

A. Obtaining Information

Please refer to Docket ID NRC-2021-0197 when contacting the NRC about the availability of information for this action. You may obtain publicly available information related to this action using any of the following methods:

• Federal Rulemaking Website: Go to https://www.regulations.gov and search for Docket ID NRC-2021-0197.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. “Generic Environmental Impact Statement for License Renewal of Nuclear Plants, Supplement 11, Second Renewal, Regarding Subsequent License Renewal for St. Lucie Plant, Units 1 and 2, Draft Report for Comment” is available under ADAMS Accession No. ML25349A162.

• NRC's PDR: The PDR, where you may examine and order copies of publicly available documents, is open by appointment. To make an appointment to visit the PDR, please send an email to PDR.Resource@nrc.gov or call 1-800-397-4209 or 301-415-4737, between 8 a.m. and 4 p.m. eastern time, Monday through Friday, except Federal holidays.

• Public Library: A copy of “Generic Environmental Impact Statement for License Renewal of Nuclear Plants, Supplement 11, Second Renewal, Regarding Subsequent License Renewal for St. Lucie Plant, Units 1 and 2, Draft Report for Comment” will be available for public review at the Morningside Branch of the St. Lucie County Library, 2410 SE Morningside Blvd., Port St. Lucie, Florida 34952 and at the Kilmer Branch of the St. Lucie County Library, 101 Melody Lane, Fort Pierce, Florida 34950.

B. Submitting Comments

The NRC encourages electronic comment submission through the Federal rulemaking website (https://www.regulations.gov). Please include Docket ID NRC-2021-0197 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

By letter dated August 3, 2021 (ADAMS Package Accession No. ML21215A314), Florida Power & Light Co. (FPL) submitted to the NRC an application requesting subsequent renewal of Renewed Facility Operating License Nos. DPR-67 and NPF-16 for St. Lucie, Units 1 and 2, respectively, for an additional 20 years of operation. This submission initiated the NRC's proposed action of determining whether to grant the subsequent license renewal application. The St. Lucie units are pressurized light-water moderated and cooled reactors designed by Combustion Engineering and are located in St. Lucie County, Florida, approximately 7 miles southeast of Fort Pierce, Florida. The current renewed facility operating license for Unit 1 expires at midnight on March 1, 2036, and the current renewed facility operating license for Unit 2 expires at midnight on April 6, 2043. The subsequent license renewal application was submitted pursuant to part 54 of title 10 of the Code of Federal Regulations (10 CFR), “Requirements for Renewal of Operating Licenses for Nuclear Power Plants,” and seeks to subsequently renew the renewed facility operating license for Unit 1 until midnight on March 1, 2056, and the renewed facility operating license for Unit 2 until midnight on April 6, 2063. A notice of receipt and availability of the application was published in the Federal Register on August 16, 2021 (86 FR 45768). A notice of acceptance for docketing of the application and of an opportunity to request a hearing was published in the Federal Register on September 29, 2021 (86 FR 53986). A notice of intent to conduct a scoping process and to prepare an environmental impact statement was published in the Federal Register on October 22, 2021 (86 FR 58701).

III. Discussion

The NRC is issuing for public comment “Generic Environmental Impact Statement for License Renewal of Nuclear Plants, Supplement 11, Second Renewal, Regarding Subsequent License Renewal for St. Lucie Plant, Units 1 and 2, Draft Report for Comment.” This draft EIS includes the NRC staff's preliminary analysis of the environmental impacts of the proposed action and alternatives to the proposed action.

Based on (1) the analysis and findings in NRC's NUREG 1437, Revision 2, “Generic Environmental Impact Statement for License Renewal of Nuclear Plants, Final Report” (ADAMS Package Accession No. ML24087A133), dated August 2024; (2) the subsequent license renewal application; (3) the NRC staff's consultation with Federal, State, Tribal, and local governmental agencies; (4) the NRC staff's independent environmental review; and (5) the NRC staff's consideration of public comments received during the scoping process, the NRC staff's preliminary recommendation is that the adverse environmental impacts of subsequent license renewal for St. Lucie are not so great that preserving the option of subsequent license renewal for energy-planning decision-makers would be unreasonable.

Dated: January 7, 2026.
For the Nuclear Regulatory Commission.
Kimyata Savoy,
Acting Deputy Director, Division of Rulemaking, Environmental, and Financial Support, Office of Nuclear Material Safety and Safeguards.

[FR Doc. 2026-00238 Filed 1-8-26; 8:45 am]

BILLING CODE 7590-01-P